DEPARTMENT OF HOMELAND SECURITY

Coast Guard

[Docket No. USCG-2012-0855]

National Offshore Safety Advisory Committee

AGENCY: United States Coast Guard

ACTION: Committee Management; Notice of Federal Advisory Committee Meetings.

SUMMARY: The National Offshore Safety Advisory Committee (NOSAC) will meet on November 7 and 8, 2012, in Houston, TX to discuss various issues related to safety of operations and other matters affecting the oil and gas offshore industry. These meetings are open to the public.

DATES: NOSAC will meet Wednesday, November 7, 2012, from 1 p.m. to 5 p.m. and Thursday, November 8, 2012, from 8:30 a.m. to 5 p.m. Two subcommittees will meet the afternoon of November 7. Please note that the meetings may close early if the committee has completed its business or be extended based on the level of public comments.

ADDRESSES: The meetings will be held at the Marriott South Hobby Airport Hotel, 9100 Gulf Freeway, Houston, TX 77017, http://www.marriott.com/houhh. The November 7 afternoon subcommittee meetings will be held in the Corpus Christi room. The November 8 meeting will also be held at Marriott South Hobby Airport Hotel, in the Corpus Christi/South Padre Rooms.

For information on facilities or services for individuals with disabilities or to request special assistance at the meeting, contact the person listed in FOR FURTHER INFORMATION CONTACT as soon as possible.

To facilitate public participation, we are inviting public comment on the issues to be considered by the committee as listed in the “AGENDA” section below. Comments must be submitted in writing no later than October 25, 2012, and must be identified by USCG-2012-0855 and may be submitted by one of the following methods:

• Federal eRulemaking Portal: http://www.regulations.gov. Follow the instructions for submitting comments.

• Fax: (202) 493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2011-0855 in the Keyword ID box, press Enter, and then click on the item you are interested in viewing.

A public comment period will be held during the meeting on November 8, 2012, and speakers are requested to limit their comments to 3 minutes. Please note that the public comment period may end before the time indicated, following the last call for comments. Contact one of the individuals listed below to register as a speaker.

FOR FURTHER INFORMATION CONTACT: Commander Rob Smith, Designated Federal Officer of NOSAC, Commandant (CG-OES-2), U.S. Coast Guard, 2100 Second Street SW., Stop 7126, Washington, DC 20593-0001; telephone (202) 372-1410, fax (202) 372-1926, or Mr. Scott Hartley, Alternate Designated Federal Officer of NOSAC, Commandant (CG-OES-2), U.S. Coast Guard, 2100 Second Street SW., Stop 7126, Washington, DC 20593-0001; telephone (202) 372-1437, fax (202) 372-1926. If you have questions on viewing or submitting material to the docket, call Renee V. Wright, Program Manager, Docket Operations, telephone 202-366-9826.

SUPPLEMENTARY INFORMATION: Notice of this meeting is given under the Federal Advisory Committee Act, 5 U.S.C. App. (Pub. L. 92-463). The National Offshore Safety Advisory Committee (NOSAC) provides advice and recommendations to the Department of Homeland Security on matters and actions concerning activities directly involved with or in support of the exploration of offshore mineral and energy resources insofar as they relate to matters within U.S. Coast Guard jurisdiction.

Agenda

Day 1

NOSAC's two subcommittees will meet on November 7, 2012, between 1 p.m. and 5 p.m., to discuss its ongoing work. Times for these meetings are as follows: (1) Standards for Dynamic Positioning (DP) Operating Personnel (1 p.m. to 3:00 p.m.) and (2) Review of the Mississippi Canyon Block 252 Incident Reports stemming from the Deepwater Horizon casualty event (3:00 p.m. to 5 p.m.).

Day 2

The NOSAC will meet on November 8, 2012, to review and discuss reports and recommendations received from the two subcommittees from their deliberations on November 7. The Committee will use this information and consider public comments in formulating final recommendations to the agency. Public comments or questions will be taken at the discretion of the DFO during the discussion and recommendations portion of the meeting as well as during the public comment period, see Agenda item (13). A complete agenda for November 8th is as follows:

(1) Committee Administration;

(2) Welcoming comments from USCG;

(3) Presentation and discussion of Reports and Recommendations from the subcommittees and subsequent actions on:

(a) Standards for DP Operating Personnel; and

(b) Mississippi Canyon Block 252 Incident Reports.

(4) An update on recent U.S. Coast Guard (USCG) regulations and Federal Register notices that affect the offshore industry;

(5) An update on recent Bureau of Safety and Environmental Enforcement (BSEE) regulations, Federal Register notices and Notice to Lessees;

(6) A USCG Perspective on Arctic Activities;

(7) USCG Voluntary Operational Dynamic Positioning Guidelines;

(8) USCG National Center of Expertise, Outer Continental Shelf (OCS) Inspections;

(9) Updates on International Maritime Organization (IMO) activities of interest to the OCS community;

(10) American Petroleum Institute's Center for Offshore Safety Strategic Plan and Future Activities;

(11) Quality of USCG Inspections on the OCS/Overview of USCG's mission management system program;

(12) Task Statement discussion of Standards for Accommodation Service Vessels;

(13) Period for Public comment; and

(14) Adjournment of meeting.

A copy of each report is available at the https://www.fido.gov Web site or by contacting Scott Hartley. Use “code 68” to identify NOSAC when accessing this material through the Web site. Once you have accessed the Committee page, click on the meetings tab and then the “View” button for the meeting dated November 8, 2012, to access the information for this meeting. Minutes will be available approximately 30 days after this meeting. Both minutes and documents applicable for this meeting can also be found at an alternative site using the following web address: https://homeport.uscg.mil/NOSAC.

A transcript of the meeting and any material presented at the meeting will be made available through the https://www.fido.gov Web site.

The committee will review the information presented on each issue, deliberate on any recommendations presented in the subcommittees' reports, and formulate recommendations for the Department's consideration.

The committee will also receive tasking from CDR Rob Smith, Designated Federal Officer, on one proposed task statement: Standards for Accommodation Service Vessels. The committee will make recommendations to the U.S. Coast Guard concerning this task.

Dated: October 11, 2012.
F.J. Sturm,
Acting Director of Commercial Regulations and Standards.

[FR Doc. 2012-25569 Filed 10-16-12; 8:45 am]

BILLING CODE 9110-04-P